DEPARTMENT OF VETERANS AFFAIRS

Performance Review Board Members

AGENCY: Department of Veterans Affairs.

ACTION: Notice.

SUMMARY: Under the provisions of 5 U.S.C. 4314(c) (4) agencies are required to publish a notice in the Federal Register of the appointment of Performance Review Board (PRB) members. This notice updates the VA Performance Review Board of the Department of Veterans Affairs that was published in the Federal Register on October 24, 2005 (Vol. 70, No. 204).

DATES: Effective Date: September 22, 2006.

FOR FURTHER INFORMATION CONTACT: Charlotte Moment, Office of Human Resources Management (052B), Department of Veterans Affairs, 810 Vermont Avenue, NW., Washington, DC 20420, (202) 273-8165.

VA Performance Review Board (PRB)

R. Allen Pittman, Assistant Secretary for Human Resources and Administration (Chairperson)

Thomas G. Bowman, Chief of Staff

Sharon K. Barnes, Deputy Chief of Staff (Alternate)

Ronald R. Aument, Deputy Under Secretary for Benefits, Veterans Benefits Administration

Michael Walcoff, Associate Deputy Under Secretary for Operations, Veterans Benefits Administration (Alternate)

Gerald M. Cross, M.D., Acting Deputy Under Secretary for Health, Veterans Health Administration

William F. Feeley, Assistant Deputy Under Secretary for Health for Operations and Management, Veterans Health Administration (Alternate)

Arthur S. Hamerschlag, Chief of Staff, Veterans Health Administration (Alternate)

John H. Thompson, Deputy General Counsel

Rita Reed, Deputy Assistant Secretary for Budget

Jon A. Wooditch, Deputy Inspector General

Robert T. Howard, Executive Director

Kenneth M. Greenberg, Executive Secretary to the Department

Richard Wannemacher, Jr., Senior Advisor, National Cemetery Administration

Dated: September 19, 2006.
R. James Nicholson,
Secretary of Veterans Affairs.

[FR Doc. 06-8106 Filed 9-21-06; 8:45 am]

BILLING CODE 8320-01-P